FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201282.

Agreement Name: Hyundai Glovis/Grimaldi West Africa Space Charter Agreement.

Parties: Hyundai Glovis Co. Ltd. and Grimaldi Deep Sea S.P.A.

Filing Party: Wayne Rohde; Cozen O'Connor.

Synopsis: The Agreement authorizes the parties to charter space to/from one another on an “as needed/as available” basis in the trade between ports on the U.S. Atlantic and Gulf Coasts on the other hand and ports in West Africa and South Africa on the other hand.

Proposed Effective Date: 11/2/2018.

Location: https://www2.fmc.gov/FMC.Agreements.Web/Public/AgreementHistory/20303.

Agreement No.: 011550-018.

Agreement Name: ABC Discussion Agreement.

Parties: Crowley Caribbean Services LLC; King Ocean Services Limited, Inc.; and Seaboard Marine Ltd.

Filing Party: Wayne Rohde; Cozen O'Connor.

Synopsis: The amendment adds Crowley Caribbean Services, LLC as a party to the Agreement.

Proposed Effective Date: 12/22/2018.

Location: https://www2.fmc.gov/FMC.Agreements.Web/Public/AgreementHistory/883.

Agreement No.: 011741-023.

Agreement Name: U.S. Pacific Coast-Oceania Agreement.

Parties: ANL Singapore Pte Ltd; Hapag Lloyd AG; and Maersk Line A/S.

Filing Party: Wayne Rohde; Cozen O'Connor.

Synopsis: The amendment revises Article 5.1(a) to clarify the operational capacity of the vessels operated under this Agreement.

Proposed Effective Date: 12/24/2018.

Location: https://www2.fmc.gov/FMC.Agreements.Web/Public/AgreementHistory/601.

Dated: November 9, 2018.
Rachel Dickon,
Secretary.

[FR Doc. 2018-24986 Filed 11-15-18; 8:45 am]

BILLING CODE 6731-AA-P